DEPARTMENT OF STATE

[Public Notice 5022]

Secretary of State's Advisory Committee on Private International Law: Notice of Meeting

Summary: There will be a public meeting of the Study Group on Enforcement of Judgments of the Secretary of State's Advisory Committee on Private International Law, from 9 a.m. to 3 p.m. on Monday May 9 at the new headquarters of the U.S. Patent & Trademark Office: Randolph Building Conference Center (401 Dulany Street, Alexandria, VA 22313-1450.

Full Text: The Department of State is convening a meeting of the Secretary of State's Advisory Committee on Private International Law, Study Group on Enforcement of Judgments, in order to seek consultations on the proposed draft Hague Convention on Exclusive Choice of Court Agreements. The draft convention will be considered at the 20th Diplomatic Session of the Hague Conference on Private International Law, June 14-30, 2005, and is expected to be adopted and opened for signature at that time.

The meeting of the Advisory Committee will consider the full range of issues raised by the draft convention, in order to assist the U.S. delegation prepare for the Diplomatic Conference. In addition to members of the U.S. delegation, the meeting will include experts from industry, trade associations, consumer groups, bar associations, non-governmental associations, and other interested parties. The current draft of the proposed convention, including an explanatory report, may be found on the Web site of the Hague Conference (http://www.hcch.net).

The meeting will be held from 9 a.m. to 3 p.m. on Monday, May 9, at the Randolph Building Conference Center of the U.S. Patent and Trademark Office, 401 Dulany Street, Alexandria, VA 22313-1450. The meeting is open to the public up to the capacity of the meeting room. Interested persons are invited to attend and to express their views. Persons who wish to have their views considered are encouraged, but not required, to submit written comments in advance of the meeting. Written comments should be submitted by e-mail to Jeffrey Kovar at kovarjd@state.gov. All comments will be made available to the public by request to Mr. Kovar via e-mail or by telephone (202-776-8420).

Persons wishing to attend must notify Ms. Cherise Reid by e-mail (reidcd@state.gov), fax (202-776-8482), or by telephone (202-776-8420).

Dated: April 15, 2005.
Jeffrey D. Kovar,
Assistant Legal Adviser for Private International Law, Department of State.

[FR Doc. 05-7801 Filed 4-18-05; 8:45 am]

BILLING CODE 4710-08-P